DEPARTMENT OF HEALTH AND HUMAN SERVICES

[Document Identifier: OS-0990-New; 30-Day Notice]

Agency Information Collection Request; 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: Public Input to Nominate Non-Federal Health and Health Care Data Sets and Applications for Listing on Healthdata.gov—OMB No. 0990-NEW—Immediate Office of the Secretary, Office of the Chief Technology Officer.

Abstract: The Department of Health and Human Services is promoting the use of health and health care datasets that are not specific to individual's personal health information to improve decision making by individuals, organizations, and governments through better understanding of the data. Federal agencies are making health indicator datasets (data that is not associated with any individuals) and tools available for use by the public through a web portal community known as healthdata.gov or http://www.data.gov/health. These datasets and tools are anticipated to benefit development of applications, web-based tools, and other electronic resources improve community action for health and health care. The development of tools, reference sets, dashboards, and electronic data visualization methods serve to provide context and understanding to complex health and health care data.

To broaden the type and amount of data available for these purposes, HHS is soliciting public input on nominations of non-Federal health and health data indicator datasets and applications using them to improve health and health data. For example, health indicator datasets representing surveys conducted by state government or private organizations may be considered as high-value datasets among researchers, applications developers, and others.

Estimated Annualized Burden Table
Forms | Type of respondent | Number of respondents | Number of responses per respondent | Average burden (in hours) per response | Total burden hours
Health and Healthcare Dataset Application | Data specialist/technologist | 40 | 1 | 15/60 | 10

Seleda Perryman,
Office of the Secretary, Paperwork Reduction Act Clearance Officer.

[FR Doc. 2011-1762 Filed 1-26-11; 8:45 am]

BILLING CODE 4150-03-P